DEPARTMENT OF DEFENSE

48 CFR Part 217

[DFARS Case 2004-D024]

Defense Federal Acquisition Regulation Supplement; Multiyear Contracting

AGENCY: Department of Defense (DoD).

ACTION: Final rule.

SUMMARY: DoD has adopted as final, without change, an interim rule amending the Defense Federal Acquisition Regulation Supplement (DFARS) to implement Section 8008 of the Defense Appropriations Act for Fiscal Year 2005 and Section 814 of the National Defense Authorization Act for Fiscal Year 2005. Sections 8008 and 814 contain requirements related to the funding of multiyear contracts.

DATES: Effective September 16, 2005.

FOR FURTHER INFORMATION CONTACT: Ms. Robin Schulze, Defense Acquisition Regulations Council, OUSD(AT&L)DPAP(DAR), IMD 3C132, 3062 Defense Pentagon, Washington, DC 20301-3062. Telephone (703) 602-0326; facsimile (703) 602-0350. Please cite DFARS Case 2004-D024.

SUPPLEMENTARY INFORMATION:

A. Background

DoD published an interim rule at 70 FR 24323 on May 9, 2005, to implement Section 8008 of the Defense Appropriations Act for Fiscal Year 2005 (Pub. L. 108-287) and Section 814 of the National Defense Authorization Act for Fiscal Year 2005 (Pub. L. 108-375). Section 814 requires DoD to provide notice and supporting rationale to Congress before awarding a multiyear contract containing a cancellation ceiling exceeding $100 million that is not fully funded. Section 8008 places additional restrictions on the award of multiyear contracts for supplies using fiscal year 2005 appropriated funds.

DoD received no comments on the interim rule. Therefore, DoD has adopted the interim rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule addresses internal DoD planning, budgeting, and reporting requirements related to the award of multiyear contracts.

C. Paperwork Reduction Act

The Paperwork Reduction Act does not apply because the rule does not impose any information collection requirements that require the approval of the Office of Management and Budget under 44 U.S.C. 3501, et seq.

List of Subjects in 48 CFR Part 217

Government procurement.

Michele P. Peterson,
Editor, Defense Acquisition Regulations System.

Interim Rule Adopted as Final Without Change

Accordingly, the interim rule amending 48 CFR Part 217, which was published at 70 FR 24323 on May 9, 2005, is adopted as a final rule without change.

[FR Doc. 05-18475 Filed 9-15-05; 8:45 am]

BILLING CODE 5001-08-P